DEPARTMENT OF HEALTH AND HUMAN SERVICES

Health Resources and Services Administration

Agency Information Collection Activities: Submission to OMB for Review and Approval; Public Comment Request; Enhancing HIV Care of Women, Infants, Children and Youth Building Capacity Through Communities of Practice

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than June 12, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, Samantha Miller, the HRSA Information Collection Clearance Officer, at paperwork@hrsa.gov or call (301) 594-4394.

SUPPLEMENTARY INFORMATION:

Information Collection Request Title: Enhancing HIV Care of Women, Infants, Children and Youth Building Capacity through Communities of Practice, OMB No. 0915-xxxx—New.

Abstract: HRSA aims to increase delivery of evidence-based interventions that enhance client outcomes, increase the skill level of the HIV workforce providing care and treatment to Women, Infants, Children and Youth, and involve partnerships for dissemination of best practices to Ryan White HIV/AIDS Program (RWHAP) Part D participants. To that end, HRSA seeks to implement a Communities of Practice (CoP) platform for RWHAP Part D recipients. A CoP engages recipient teams in improvement learning sessions using subject matter experts along with application experts who help recipient teams select, test, and implement changes on the front line of care. Through organizational self-assessments, didactic learning on specific care topics, goals setting, and work plan development, each team can strategically benefit their organization. CoPs afford participants the opportunity to work in a group to solve a recognized challenge related to a CoP domain and support dialogue among participants and the consultant/subject matter experts. Recipient teams commit to working over a period of 12 months, alternating between Learning Sessions in which teams come together to learn about the chosen topic and to plan changes, and Action Periods in which the teams return to their respective organizations and test those changes in their clinic settings. The domains for the proposed CoPs are trauma informed care, pre-conception counseling, and youth transitioning into adult HIV care services.

A 60-day notice published in the Federal Register on February 27, 2023, vol. 88, No. 38; pp. 12386-12387. The one comment received was outside the scope of the ICR, and therefore no changes to the information collection were made as a result of this comment.

Need and Proposed Use of the Information: Process and outcome evaluations are a critical part of ensuring that CoP initiatives were implemented as planned and met their intended outcome. Evaluation of technical assistance (TA) depends on establishing clear goals and plans from the beginning of the process. This includes specifying the intended impact of the TA with concrete, measurable objectives. To judge performance against goals, HRSA will administer TA evaluation surveys following TA and training, webinars, teleconferences, and meetings. Findings will drive quality improvement activities and reports.

The evaluation plan focuses on process and impact evaluation of all CoP Teams (Pre-Conception Counseling and Sexual Health, Trauma-Informed Care, and Transitioning Adolescents to Adult Care) over the duration of the 4-year period of performance. The evaluation plan components will be operationalized to include TA satisfaction measures (reaction), change in knowledge after the TA (learning), and change in behavior or practice after the introduction of evidence-based interventions (behavior). More specifically, the evaluation plan includes (1) post TA satisfaction measures, (2) pre-post measures of CoP staff knowledge about effective practices, (3) retrospective measures to gather measures of CoP staff knowledge for the first community of practice only, and (4) measures of TA usefulness and impact on CoP performance.

Likely Respondents: Up to 90 RWHAP Part D Women, Infants, Children and Youth recipients will participate in the CoPs. Each recipient may have up to six staff members who may complete the survey.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Pre-conception Counseling Community of Practice Retrospective Pretest-Post Assessment | 90 | 1 | 90 | .4733 | 42.6
Community of Practice Pre-Assessment | 180 | 1 | 180 | .2900 | 52.2
Community of Practice Post-Assessment | 180 | 1 | 180 | .3767 | 67.8
Community of Practice Session Assessment | 270 | 6 | 1,620 | .0767 | 124.3
Targeted and Intensive TA Assessment | 120 | 1 | 120 | .0833 | 10.0
Foundational TA Assessment | 150 | 1 | 150 | .0616 | 9.2
Total | 990 |  | 2,340 |  | 306.1

Maria G. Button,
Director, Executive Secretariat.

[FR Doc. 2023-10192 Filed 5-11-23; 8:45 am]

BILLING CODE 4165-15-P